DEPARTMENT OF HEALTH AND HUMAN SERVICES

Office of the Secretary

[Document Identifier: HHS-OS-16703-30D]

Agency Information Collection Activities; Submission to OMB for Review and Approval; Public Comment Request

ACTION: Notice of 30-day.

SUMMARY: In compliance with section 3506(c)(2)(A) of the Paperwork Reduction Act of 1995, the Office of the Secretary (OS), Department of Health and Human Services, will submit an Information Collection Request (ICR), described below, to the Office of Management and Budget (OMB) for review and approval. The ICR is for a new collection. Comments submitted during the first public review of this ICR will be provided to OMB. OMB will accept further comments from the public on this ICR during the review and approval period.

Deadline: Comments on the ICR must be received within 30 days of the issuance of this notice.

ADDRESSES: Submit your comments, including the Information Collection Request Title and document identifier HHS-OS-16703-30D, to OIRA_submission@omb.eop.gov or via facsimile to (202) 395-5806. Copies of the supporting statement and any related forms may be requested via email to Information.CollectionClearance@hhs.gov or by calling (202) 690-6162.

Information Collection Request Title: OS Think Cultural Health.

Abstract: The Office of Minority Health (OMH), Office of the Secretary (OS), Department of Health and Human Services (DHHS) is requesting approval from OMB for the Think Cultural Health (TCH) Web site. The Web site is used to post information such as cultural competency, language access and health disparities articles, and notices of health disparities conferences for visitors to the site. The TCH Web site is unlike other government sites, in that it offers users the ability to gain cultural health competency credits through on-line training and resources in addition to offering users the option of receiving a newsletter.

It supports the Office of Minority Health within the Office of the Secretary of the Department of Health and Human Services (HHS/OS/OMH) in complying with the cultural competency requirements of the Patient Protection and Affordable Care Act of 2010 (ACA) (Pub. L.111-148), as well as the Secretary's Plan to Reduce Racial and Ethnic Health Disparities, the National Stakeholder Strategy for Achieving Health Equity, Healthy People 2020, the Secretary's Strategic Plan priorities, and the Assistant Secretary for Health's Public Health Quality agenda.

Estimated Annualized Burden Table

Burden Statement: Burden in this context means the time expended by persons to generate, maintain, retain, disclose or provide the information requested. This includes the time needed to review instructions, to develop, acquire, install and utilize technology and systems for the purpose of collecting, validating and verifying information, processing and maintaining information, and disclosing and providing information, to train personnel and to be able to respond to a collection of information, to search data sources, to complete and review the collection of information, and to transmit or otherwise disclose the information. The total annual burden hours estimated for this ICR are summarized in the table below.

Total Estimated Annualized Burden—Hours
Form name | Type of respondent | Number of respondents | Number of responses per respondent | Average burden per response (hours) | Total burden (hours)
Think Cultural Health Registration Form | Physician Nurse Physician Assistant Dentist | 27,477 44,723 1,882 377 | 1 1 1 1 | 3/60 3/60 3/60 3/60 | 1,373.85 2,236.15 94.10 18.85
| Dental Professional | 39 | 1 | 3/60 | 1.95
| Social Worker | 1,733 | 1 | 3/60 | 86.65
| Public Health | 186 | 1 | 3/60 | 9.30
| General Healthcare Worker | 12,635 | 1 | 3/60 | 631.75
| Psychologist/Psychiatrist | 189 | 1 | 3/60 | 9.45
| Mental Health Professional | 180 | 1 | 3/60 | 9.00
| Pharmacist, RPH | 750 | 1 | 3/60 | 37.50
| Emergency Medical Technician | 492 | 1 | 3/60 | 24.60
| Administrator or Hospital Executive | 151 | 1 | 3/60 | 7.55
| Policymaker or Public Official | 17 | 1 | 3/60 | 0.85
| Teacher | 424 | 1 | 3/60 | 21.20
| Lawyer | 107 | 1 | 3/60 | 5.35
| Bachelors | 3,753 | 1 | 3/60 | 187.65
| Masters | 4,063 | 1 | 3/60 | 203.15
| Doctorate | 1,130 | 1 | 3/60 | 56.50
| Student | 7,504 | 1 | 3/60 | 375.20
| Other | 10,880 | 1 | 3/60 | 544.00
| Total | 118,692 | 1 | 3/60 | 5,934.60

Keith A. Tucker,
Information Collection Clearance Officer, Department of Health and Human Services.

[FR Doc. 2012-24729 Filed 10-5-12; 8:45 am]

BILLING CODE 4150-29-P